DEPARTMENT OF THE INTERIOR

Bureau of Reclamation

National Park Service

Notice of Intent To Prepare a Draft Environmental Impact Statement and Conduct Public Scoping on the Adoption of a Long-Term Experimental and Management Plan for the Operation of Glen Canyon Dam

AGENCY: Bureau of Reclamation and National Park Service, Interior.

ACTION: Notice of intent.

SUMMARY: On December 10, 2009, Secretary of the Interior (Secretary) Ken Salazar announced that the development of a Long-Term Experimental and Management Plan (LTEMP) for Glen Canyon Dam was needed. The Secretary emphasized the inclusion of stakeholders, particularly those in the Glen Canyon Dam Adaptive Management Program (GCDAMP), in the development of the LTEMP. The Department of the Interior (Department), through the Bureau of Reclamation (Reclamation) and the National Park Service (NPS), will prepare a draft environmental impact statement (EIS) and conduct public scoping for the adoption of a LTEMP for the operation of Glen Canyon Dam. The Department's decision to develop the LTEMP is a component of its efforts to continue to comply with the ongoing requirements and obligations established by the Grand Canyon Protection Act of 1992 (Pub. L. 102-575) (GCPA). Reclamation and the NPS will co-lead this effort because Reclamation has primary responsibility for operation of Glen Canyon Dam and the NPS has primary responsibility for Grand Canyon National Park and Glen Canyon National Recreation Area.

FOR FURTHER INFORMATION CONTACT: Beverley Heffernan, telephone (801) 524-3712; facsimile (801) 524-3826; e-mail LTEMPEIS@usbr.gov.

SUPPLEMENTARY INFORMATION: The GCDAMP was established by, and has been implemented pursuant to the Secretary's 1996 Record of Decision on the Operation of Glen Canyon Dam (ROD), in order to comply with monitoring and consultation requirements of the GCPA. The GCDAMP includes a Federal advisory committee known as the Glen Canyon Dam Adaptive Management Work Group (AMWG), a technical work group, a scientific monitoring and research center administered by the U.S. Geological Survey (USGS), and independent scientific review panels. The AMWG makes recommendations to the Secretary concerning Glen Canyon Dam operations and other management actions to protect resources downstream of Glen Canyon Dam consistent with the GCPA and other applicable provisions of Federal law.

The purpose of the proposed LTEMP is to utilize current, and develop additional scientific information, to better inform Departmental decisions and to operate the dam in such a manner as to improve and protect important downstream resources while maintaining compliance with relevant laws including the GCPA, the Law of the River, and the Endangered Species Act (ESA). The National Environmental Policy Act (NEPA) process will document and evaluate impacts of the alternatives described in the EIS. The LTEMP is intended to develop and implement a structured, long-term experimental and management plan, to determine the need for potential future modifications to Glen Canyon Dam operations, and to determine whether to establish an ESA Recovery Implementation Program for endangered fish species below Glen Canyon Dam.

A primary function of the LTEMP will be to identify adaptive management experiments that have been successfully completed under the GCDAMP and to evaluate potential future experiments that may further inform management decisions. Revised dam operations and other actions under the jurisdiction of the Secretary will be considered for alternatives in the EIS, in keeping with the scope of the GCPA. The LTEMP will be the first EIS completed on the operations of Glen Canyon Dam since the 1995 EIS, which was intended to allow the Secretary to “balance and meet statutory responsibilities for protecting downstream resources for future generations and producing hydropower, and to protect affected Native American interests.” Given that it has been 15 years since completion of the 1996 ROD on the operation of Glen Canyon Dam, the Department will study new information developed through the GCDAMP, including information on climate change, so as to more fully inform future decisions regarding the operation of Glen Canyon Dam and other management and experimental actions.

As stated above, the LTEMP will build on more than a decade of scientific experimentation and monitoring undertaken as part of the GCDAMP. Accordingly, Reclamation and the NPS intend, where appropriate, to incorporate by reference, or tier from, earlier NEPA compliance documents prepared as part of the Department's Glen Canyon Dam adaptive management efforts, see 40 CFR 1500.4(i), 1502.20, and 1508.20(b), such as the Environmental Assessment for an Experimental Protocol for High-Flow Releases from Glen Canyon Dam and the Environmental Assessment for Non-Native Fish Control in the Colorado River Downstream from Glen Canyon Dam that are currently in preparation.

Environmental documentation and updated information developed for the Long-Term Experimental Plan (LTEP) EIS (that was partially developed during 2006-2007) will be utilized. In a Federal Register notice published on February 12, 2008 (73 FR 8062), the LTEP EIS was put on hold until completion of environmental compliance on a five-year plan of experimental flows (2008-2012), including a high-flow test completed in March 2008 and yearly fall steady flows to be conducted in September and October of each year from 2008-2012.

This Federal Register notice provides notice that the LTEP EIS, initiated in a Federal Register notice dated November 6, 2006 (71 FR 64982), will be superseded by the LTEMP EIS. In addition, this notice provides the public with initial information regarding the anticipated development and purpose of the LTEMP, and notice of the Department's commitment to analyze the LTEMP in an EIS pursuant to NEPA.

Public scoping meetings will be held to solicit comments on the scope of the LTEMP and the issues and alternatives that should be analyzed. These meetings will serve to expand upon the input received from meetings and recommendations of the AMWG. Additional information regarding the dates and times for the upcoming meetings and identification of relevant comment periods will be provided in a future Federal Register notice, as well as through other methods of public involvement as the NEPA process is undertaken and the LTEMP is developed and prepared.

Background

Glen Canyon Dam was authorized by the Colorado River Storage Project Act of 1956 and completed by Reclamation in 1963. Below Glen Canyon Dam, the Colorado River flows for 15 miles through the Glen Canyon National Recreation Area which is managed by the NPS. Fifteen miles below Glen Canyon Dam, Lees Ferry, Arizona, marks the beginning of Marble Canyon and the northern boundary of Grand Canyon National Park.

The major function of Glen Canyon Dam is water conservation and storage. The dam is specifically managed to regulate releases of water from the Upper Colorado River Basin to the Lower Colorado River Basin to satisfy provisions of the 1922 Colorado River Compact and subsequent water delivery commitments, and thereby allow states within the Upper Basin to deplete water from the watershed upstream of Glen Canyon Dam and utilize their apportionments of Colorado River water.

Another function of Glen Canyon Dam is to generate hydroelectric power. Between the dam's completion in 1963 and 1990, the dam's daily operations were primarily to maximize generation of hydroelectric power. Over time, concerns arose with respect to the operation of Glen Canyon Dam, including effects on the downstream riparian ecosystem and on species listed pursuant to the ESA. In 1992, Congress passed and the President signed into law the GCPA which addresses potential impacts of dam operations on downstream resources in Glen Canyon National Recreation Area and Grand Canyon National Park.

The GCPA required the Secretary to complete an EIS evaluating alternative operating criteria that would determine how Glen Canyon Dam would be operated “to protect, mitigate adverse impacts to, and improve the values for which Grand Canyon National Park and Glen Canyon National Recreation Area were established.” The final EIS was completed in March 1995. Consistent with section 1802 of the GCPA, the Preferred Alternative (Modified Low Fluctuating Flow Alternative) was selected as the best means to operate Glen Canyon Dam in a ROD issued on October 9, 1996. In 1997 the Secretary adopted operating criteria for Glen Canyon Dam (62 FR 9447) as required by Section 1804(c) of the GCPA.

Additionally, the GCPA required the Secretary to undertake research and monitoring to determine if revised dam operations were achieving the resource protection objectives of the final EIS and ROD. These provisions of the GCPA were incorporated into the 1996 ROD and led to the establishment of the GCDAMP, administered by Reclamation, and of the Grand Canyon Monitoring and Research Center within the USGS.

Purpose and Need for Action

The purpose of the proposed action is to fully evaluate dam operations and identify management actions and experimental options that will provide a framework for adaptively managing Glen Canyon Dam over the next 15 to 20 years consistent with the GCPA and other provisions of applicable Federal law. The proposed action will help determine specific alternatives that could be implemented to meet the GCPA's requirements and to minimize—consistent with law—adverse impacts on the downstream natural, recreational, and cultural resources in the two park units, including resources of importance to American Indian Tribes. The need for the proposed action stems from the need to utilize scientific information developed over the past 15 years to better inform Departmental decisions on dam operations and other management and experimental actions so that the Secretary may continue to meet statutory responsibilities for protecting downstream resources for future generations, conserving ESA listed species, and protecting Native American interests, while meeting water delivery obligations and for the generation of hydroelectric power.

Proposed Federal Action

The proposed Federal action is to (a) Develop and implement a structured, long-term experimental and management plan for the operation of Glen Canyon Dam and (b) to determine whether to establish a Recovery Implementation Program for endangered fish species below Glen Canyon Dam.

Public Disclosure

Before including a name, address, telephone number, e-mail address, or other personal identifying information in the comment, please be advised that the entire comment—including personal identifying information—may be made publicly available at any time. While a commenter may request that Reclamation and the NPS withhold personal identifying information from public review, Reclamation and the NPS cannot guarantee that the Department will be able to do so.

Dated: June 23, 2011.
Anne J. Castle,
Assistant Secretary—Water and Science.
Rachel Jacobson,
Acting Assistant Secretary—Fish and Wildlife and Parks.

[FR Doc. 2011-16926 Filed 7-5-11; 8:45 am]

BILLING CODE 4310-MN-P